DEPARTMENT OF HEALTH AND HUMAN SERVICES

National Institutes of Medicine; Notice of Meeting

Pursuant to section 10(d) of the Federal Advisory Committee Act, as amended (5 U.S.C. Appendix 2), notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6). Title 5 U.S.C., as amended. The journals as potential titles to be indexed by the National Library of Medicine and the discussions could disclose confidential trade secrets of commercial property such as patentable material, and personal information concerning individuals associated with the journals as potential titles to be indexed by the National Library of Medicine, the disclosure of which would constitute a clearly unwarranted invasion of personal privacy.

Name of Committee: Literature Selection Technical Review Committee.

Date: February 8-9, 2001.

Open: February 8, 2001, 9am to 11am.

Agenda: Administrative Reports and Program Developments.

Place: National Library of Medicine, Board Room Bldg 38, 2E-09, 8600 Rockville Pike, Bethesda, MD 20894.

Closed: February 8, 2001, 11 am to 5 pm.

Agenda: To review and evaluate journals as potential titles to be indexed by the National Library of Medicine.

Place:National Library of Medicine, Board Room Bldg 38, 2E-09, 8600 Rockville Pike, Bethesda, MD 20894.

Closed: February 9, 2001, 8:30 am to 2 pm.

Agenda: To review and evaluate journals as potential titles to be indexed by the National Library of Medicine.

Place: National Library of Medicine, Board Room Bldg 38, 2E-09, 8600 Rockville Pike, Bethesda, MD 20894.

Contact Person: Sheldon Kotzin, BA, Chief, Bibliographic Services Division, Division of Library Operations, National Library of Medicine, 8600 Rockville Pike, Bldg 38A/Room 4N419, Bethesda, MD 20894.

(Catalogue of Federal Domestic Assistance Program Nos. 93.879, Medical Library Assistance, National Institutes of Health, HHS)

Dated: December 27, 2000.
Anna P. Snouffer,
Acting Director, Office of Federal Advisory Committee Policy.

[FR Doc. 01-333 Filed 1-4-01; 8:45 am]

BILLING CODE 4140-01-M